DEPARTMENT OF TRANSPORTATION

Federal Aviation Administration

RTCA Special Committee 202: Portable Electronic Devices

AGENCY: Federal Aviation Administration (FAA), DOT.

ACTION: Notice of RTCA Special Committee 202 meeting.

SUMMARY: The FAA is issuing this notice to advise the public of a meeting of RTCA Special Committee 202: Portable Electronic Devices.

DATES: The meeting will be held on January 20-23, 2004, from 9 a.m. to 4:30 p.m.

ADDRESSES: The meeting will be held at RTCA, Inc., 1828 L Street, NW., Suite 805, Washington, DC 20036-5133.

FOR FURTHER INFORMATION CONTACT: RTCA Secretariat, 1828 L Street, NW., Suite 805, Washington, DC, 20036-5133; telephone (202) 833-9339; fax (202) 833-9434; Web site http://www.rtca.org.

SUPPLEMENTARY INFORMATION: Pursuant to section 10(a)(2) of the Federal Advisory Committee Act Pub. L. 92-463, 5 U.S.C. Appendix 2), notice is hereby given for a Special Committee 202 meeting. The agenda will include:

• January 20:

• Working Groups 1 through 4 meet all day.

• January 21:

• Opening plenary session (welcome and introductory remarks, review agenda, review/approve previous common plenary summary, review open action items).

• Report from SC-202 Tiger Team Activities December 15-19, 2003.

• Scoping and Plan for addressing comments.

• Review Working Group (WG) Progress and Identify Issues for Resolution (will continue into second day as required).

• Working Group 1 (PEDs characterization, test, and evaluation):

• Comments and issues will be listed for tracking;

• What else remains to be done to complete Phase 1 document.

• Working Group 2 (Aircraft test and analysis):

• Comments and issues will be listed for tracking;

• What else remains to be done to complete Phase 1 document.

• January 22:

• Continue plenary session.

• Working Group 3 (Aircraft systems susceptibility):

• Comments and issues will be listed for tracking;

• What else remains to be done to complete Phase 1 document.

• Working Group 4 (Risk assessment, practical application, and final documentation):

• Comments and issues will be listed for tracking;

• What else remains to be done to complete Phase 1 document.

• Issues identified for resolution by several Working Groups:

• 1 (TBD during work session and plenary);

• 2 (TBD during work session and plenary);

• 3 (TBD during work session and plenary).

• Plan for next steps for document:

• Forward to PMC with SC-202 recommendation to publish;

• Allocation of action items of working groups for comments and issues resolution;

• Contingency meeting for plenary session February 10-12, 2004.

• Closing session (other business, date and place of next meeting, closing remarks, adjourn).

• January 23:

• If required, continue and complete.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC on December 18, 2003.
Robert Zoldos,
FAA System Engineer, RTCA Advisory Committee.

[FR Doc. 04-1270 Filed 1-21-04; 8:45 am]

BILLING CODE 4910-13-M